DEPARTMENT OF COMMERCE

International Trade Administration

[A-570-832]

Pure Magnesium from the People's Republic of China: Extension of Time for the Preliminary Results of the Antidumping Duty Administrative Review

AGENCY: Import Administration, International Trade Administration, Department of Commerce.

EFFECTIVE DATE: January 14, 2010.

FOR FURTHER INFORMATION CONTACT: Laurel LaCivita, AD/CVD Operations, Office 8, Import Administration, International Trade Administration, U.S. Department of Commerce, 14th Street and Constitution Avenue, NW, Washington, DC 20230; telephone: (202) 482-4243.

SUPPLEMENTARY INFORMATION:

Background

On May 1, 2009, the Department of Commerce (“the Department”) published in the Federal Register a notice for an opportunity to request an administrative review of the antidumping duty order on pure magnesium from the People's Republic of China (“PRC”). See Antidumping or Countervailing Duty Order, Finding, or Suspended Investigation; Opportunity to Request Administrative Review, 74 FR 20278 (May 1, 2009). Respondent, Tianjin Magnesium International Co., Ltd. (“TMI”), requested a review on May 28, 2009. Alcoa Inc. (“Alcoa”), a U.S. consumer of pure magnesium and importer of the subject merchandise, requested a review of Tianjin Xianghaiqi Resources Import & Export Trade Co., Ltd. (“TXR”) on May 29, 2009. Petitioner, US Magnesium LLC (“US Magnesium”) requested a review of TMI, TXR and Pan Asia Magnesium Co., Ltd. on June 1, 2009. The Department published in the Federal Register a notice of initiation of an administrative review of TMI for the period May 1, 2008, through April 30, 2009. See Initiation of Antidumping and Countervailing Duty Administrative Reviews and Requests for Revocation in Part, 74 FR 30052 (June 24, 2009). Currently, the preliminary results of review are due no later than January 31, 2010.

Extension of Time Limit of Preliminary Results

Pursuant to section 751(a)(3)(A) of the Tariff Act of 1930, as amended (“the Act”), the Department shall make a preliminary determination in an administrative review of an antidumping duty order within 245 days after the last day of the anniversary month of the date of publication of the order. The Act further provides, however, that the Department may extend that 245-day period to 365 days if it determines it is not practicable to complete the review within the foregoing time period.

We determine that completion of the preliminary results of this review within the 245-day period is not practicable because the Department requires additional time to analyze information pertaining to the respondent's sales practices, factors of production, and to issue and review responses to supplemental questionnaires. Therefore, we require additional time to complete these preliminary results. As a result, in accordance with section 751(a)(3)(A) of the Act, the Department is extending the time period for completion of the preliminary results of this review by 120 days until May 31, 2010. However, since May 31, 2010, falls on a federal holiday, a non-business day, the deadline for the preliminary determination will now be due no later than June 1, 2010, the next business day.

This notice is published in accordance with sections 751(a)(3)(A) and 777(i) of the Act.

Dated: January 6, 2010.
John M. Andersen,
Acting Deputy Assistant Secretary for Antidumping and Countervailing Duty Operations.

[FR Doc. 2010-608 Filed 1-13-10; 8:45 am]

BILLING CODE 3510-DS-S